DEPARTMENT OF VETERANS AFFAIRS

[OMB Control No. 2900-0011]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before January 7, 2008.

ADDRESSES: Submit written comments on the collection of information through http://www.Regulations.gov; or to VA's OMB Desk Officer, OMB Human Resources and Housing Branch, New Executive Office Building, Room 10235, Washington, DC 20503 (202) 395-7316. Please refer to “OMB Control No. 2900-0011” in any correspondence.

FOR FURTHER INFORMATION CONTACT: Denise McLamb, Records Management Service (005R1B), Department of Veterans Affairs, 810 Vermont Avenue, NW., Washington, DC 20420, (202) 461-7485, fax (202) 273-0443 or e-mail denise.mclamb@mail.va.gov. Please refer to “OMB Control No. 2900-2900-0011.”

SUPPLEMENTARY INFORMATION:

Title: Application for Reinstatement, VA Form 29-352 (Insurance Lapsed for more than 6 months) and VA Form 29-353 (Non-medical Comparative Health Statement).

OMB Control Number: 2900-0011.

Type of Review: Extension of a currently approved collection.

Abstract: VA Forms 29-352 and 29-353 are used to apply for reinstatement of insurance and/or Total Disability Income Provision that has lapsed for more than six months. VA uses the information collected to establish the applicant's eligibility for reinstatement.

An agency may not conduct or sponsor, and a person is not required to respond to a collection of information unless it displays a currently valid OMB control number. The Federal Register Notice with a 60-day comment period soliciting comments on this collection of information was published on September 25, 2007 at pages 54512-54513.

Affected Public: Individuals or households.

Estimated Annual Burden:

a. VA Form 29-352-500 hours.

b. VA Form 29-353-375 hours.

Estimated Average Burden Per Respondent:

a. VA Form 29-352-20 minutes.

b. VA Form 29-353-15 minutes.

Frequency of Response: On occasion.

Estimated Number of Respondents:

a. VA Form 29-352-1,500.

b. VA Form 29-353-1,500.

Dated: November 29, 2007.
By direction of the Secretary.
Denise McLamb,
Program Analyst, Records Management Service.

[FR Doc. E7-23726 Filed 12-5-07; 8:45 am]

BILLING CODE 8320-01-P